DEPARTMENT OF COMMERCE

Bureau of Industry and Security

Action Affecting Export Privileges; Data Physics Corporation, Data Physics China, Sri Welaratna, Bill Chen; Correction

In the Federal Register of Tuesday, May 23, 2006, the Bureau of Industry and Security published an Order at 29613. This notice is being published to correct the name and add an additional address of one of the respondents listed in the caption and text in that order. The correct name and address are as follows: Sri Ramya Welaratna, 767 Sunshine Dr., Los Altos, CA 94024.

Dated: July 14, 2006
Darryl W. Jackson,
Assistant Secretary for Export Enforcement.

[FR Doc. 06-6853 Filed 8-10-06: 8:45am]

BILLING CODE 3510-DT-M